DEPARTMENT OF AGRICULTURE

Farm Service Agency

Request for Revision of a Currently Approved Information Collection; Emergency Conservation Program

AGENCY: Farm Service Agency, USDA.

ACTION: Notice and request for comments.

SUMMARY: In accordance with the Paperwork Reduction Act of 1995, this notice announces the intention of the Farm Service Agency (FSA) to request a revision of currently approved information collection used in support of the Emergency Conservation Program (ECP).

DATES: Comments on this notice must be received on or before May 9, 2006 to be assured consideration.

Additional Information or Comments: Contact Clayton Furukawa, ECP Program Manager, Conservation and Environmental Programs Division, USDA, FSA, STOP 0513, 1400 Independence Avenue, SW., Washington, DC 20250-0513; telephone (202) 690-0571.

SUPPLEMENTARY INFORMATION: Title: Emergency Conservation Program.

OMB Control Number: 0560-0082.

Expiration Date: October 31, 2008.

Type of Request: Revision of a currently approved information collection.

Abstract: The information collected under Office of Management and Budget Control Number 0560-0082, as identified above, allows FSA to effectively administer the regulations under the ECP. The regulations at 7 CFR part 701 set forth basic policies, program provisions, and eligibility requirements for owners and operators to enter into agreements for financial and technical assistance and for receiving cost-share payments under the ECP.

Estimate of Burden: Public reporting burden for this collection of information is estimated to average .25 hours (15 minutes) per response.

Respondents: Owners, operators and other eligible agricultural producers on eligible farmland.

Estimated Number of Respondents: 120,000.

Estimated Number of Responses per Respondent: 1.

Estimated Total Annual Burden on Respondents: 90,050.

Proposed topics for comment include: (a) Whether the collection information is necessary for the proper performance of the functions of the agency, including whether the information will have practical utility; (b) the accuracy of the agency's estimate of burden, including the validity of the methodology and assumptions used; (c) ways to enhance the quality, utility, and clarity of the information collected; and (d) ways to minimize the burden of the collection of the information on those who are to respond, including the use of appropriate automated, electronic, mechanical, or other technological collection techniques or other forms of information technology. Comments should be sent to the Desk Officer for Agriculture, Office of Information and Regulatory Affairs, Office of Management and Budget, Washington, DC 20503 and to Clayton Furukawa, ECP Program Manager, Conservation and Environmental Programs Division, USDA, FSA, STOP 0513, 1400 Independence Avenue, SW., Washington, DC 20250-0513, telephone (202) 690-0571.

Signed at Washington, DC, on February 24, 2006.
Michael W. Yost,
Acting Administrator, Farm Service Agency.

[FR Doc. E6-3402 Filed 3-9-06; 8:45 am]

BILLING CODE 3410-05-P